ELECTION ASSISTANCE COMMISSION

Agency Information Collection Activities: 2024 Election Administration and Voting Survey

AGENCY: Election Assistance Commission.

ACTION: Notice; request for comment.

SUMMARY: In compliance with the Paperwork Reduction Act of 1995, the EAC announces an information collection and seeks public comment on the provisions thereof. The EAC intends to submit this proposed information collection (2024 Election Administration and Voting Survey, or EAVS) to the Director of the Office of Management and Budget for approval. The 2024 EAVS asks election officials questions concerning voting and election administration, including the following topics: Voter registration; overseas and military voting; voting by mail; early in-person voting; polling operations; provisional voting; voter participation; election technology; election policy; and other related issues.

DATES: Written comments must be submitted on or before April 3, 2024.

ADDRESSES: Written comments and recommendations for the proposed information collection should be sent electronically via https://www.regulations.gov (docket ID: EAC-2024-0001). Written comments on the proposed information collection can also be sent to the U.S. Election Assistance Commission, 633 3rd Street NW, Suite 200, Washington, DC 20001, Attn: EAVS.

Obtaining a Copy of the Survey: To obtain a free copy of the draft survey instrument: (1) Download a copy at https://www.regulations.gov (docket ID: EAC-2024-0001); or (2) write to the EAC (including your address and phone number) at U.S. Election Assistance Commission, 633 3rd Street NW, Suite 200, Washington, DC 20001, Attn: EAVS.

FOR FURTHER INFORMATION CONTACT: Raymond Williams at 202-924-0794, or email research@eac.gov; U.S. Election Assistance Commission, 633 3rd Street NW, Suite 200, Washington, DC 20001.

SUPPLEMENTARY INFORMATION:

Title and OMB Number: 2024 Election Administration and Voting Survey; OMB Number Pending.

Needs and Uses

The EAC issues the EAVS to meet its obligations under the Help America Vote Act of 2002 (HAVA) to serve as a national clearinghouse and resource for the compilation of information with respect to the administration of Federal elections; to fulfill both the EAC and the Department of Defense Federal Voting Assistance Program's (FVAP) data collection requirements under the Uniformed and Overseas Citizens Absentee Voting Act (UOCAVA); and meet its National Voter Registration Act (NVRA) mandate to collect information from states concerning the impact of that statute on the administration of Federal elections. In addition, under the NVRA, the EAC is responsible for collecting information and reporting, biennially, to Congress on the impact of that statute. The information the states are required to submit to the EAC for purposes of the NVRA report is found under Title 11 of the Code of Federal Regulations. States that respond to questions in this survey concerning voter registration-related matters will meet their NVRA reporting requirements under 52 U.S.C. 20508 and EAC regulations. Finally, UOCAVA mandates that FVAP work with the EAC and chief state election officials to develop standards for reporting UOCAVA voting information (52 U.S.C. 20302) and that FVAP will store the reported data and present the findings within the congressionally-mandated report to the President and Congress. Additionally, UOCAVA requires that “not later than 90 days after the date of each regularly scheduled general election for Federal office, each state and unit of local government which administered the election shall (through the state, in the case of a unit of local government) submit a report to the EAC on the combined number of absentee ballots transmitted to absent uniformed services voters and overseas voters for the election and the combined number of such ballots which were returned by such voters and cast in the election, and shall make such a report available to the general public.” States that complete and timely submit the UOCAVA section of the survey to the EAC will fulfill their UOCAVA reporting requirement under 52 U.S.C. 20302. In order to fulfill the above requirements, the EAC is seeking information relating to the period from the Federal general election day 2022 +1 through the November 2024 Federal general election. The EAC will provide the data regarding UOCAVA voting to FVAP after data collection is completed. This data sharing reduces the burden on local election offices because FVAP does not have to conduct its own data collection to meet its reporting requirements.

Affected Public (Respondents): State or local governments, the District of Columbia, American Samoa, Guam, the Northern Mariana Islands, Puerto Rico, and the U.S. Virgin Islands.

Affected Public: State or local government.

Number of Respondents: 56.

Responses per Respondent: 1.

Estimated Burden per Response: 90 hours per collection, 45 hours annualized.

Estimated Total Annual Burden Hours: 5,040 hours per collection, 2,520 hours annualized.

Frequency: Biennially.

Comments: Public comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

Camden Kelliher,
Acting General Counsel, U.S. Election Assistance Commission.

[FR Doc. 2024-04401 Filed 3-1-24; 8:45 am]

BILLING CODE 4810-71-P